DEPARTMENT OF HEALTH AND HUMAN SERVICES

Administration for Community Living

Agency Information Collection Activities; Submission for OMB Review; Public Comment Request; SHIP-SMP Survey of Group Outreach and Education Events (OMB Control Number 0985-0056)

AGENCY: Administration for Community Living, HHS.

ACTION: Notice.

SUMMARY: The Administration for Community Living (ACL) is announcing that the proposed collection of information listed above has been submitted to the Office of Management and Budget (OMB) for review and clearance as required under the Paperwork Reduction Act of 1995. This 30-Day notice collects comments on the information collection requirements related to the Proposed Revision and solicits comments on the information collection requirements related to the “National SHIP-SMP Beneficiary Survey of Group Outreach and Education Events.”

DATES: Comments on the collection of information must be submitted electronically by 11:59 p.m. (EST) or postmarked by July 31, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Shefy Simon, Administration for Community Living, Washington, DC 20201, 202-795-7572, shefy.simon@acl.hhs.gov.

SUPPLEMENTARY INFORMATION: In compliance with the Paperwork Reduction Act, ACL has submitted the following proposed information collection to OMB for review and clearance. The SHIP-SMP Survey of Group Outreach and Education Events is a survey of individuals who attend outreach and education events provided by the State Health Insurance Assistance Program (SHIP) or Senior Medicare Patrol (SMP). These events help Medicare beneficiaries understand their Medicare benefits and options. These events also increase the ability of beneficiaries to identify fraud, waste, and abuse within health care programs generally, and Medicare/Medicaid specifically. The State Health Insurance Assistance Program (SHIP) was created under the Omnibus Budget Reconciliation Act of 1990.

This section of the law authorized the Department of Health and Human Services (HHS) to make grants to states to establish and maintain health insurance advisory service programs for Medicare beneficiaries. Grant funds were made available to support information, counseling, and assistance activities related to Medicare, Medicaid, and other health insurance options.

The Senior Medicare Patrol (SMP) program was authorized in 1997 under Titles II and IV of the Older Americans Act, the Omnibus Consolidated Appropriation Act of 1997 and the Health Insurance Portability and Accountability Act of 1996. The SMP mission is to empower and assist Medicare beneficiaries, their families, and caregivers, to prevent, detect, and report suspected healthcare fraud, errors, and abuse through outreach, counseling, and education. SMP grantees support ACL's goals of promoting increased choice and greater independence among older adults and individuals with disabilities. SMP activities enhance the financial, emotional, physical, and mental well-being of older adults, thereby increasing their capacity to maintain security in retirement and make better financial and healthcare choices. SHIP-SMP grantees provide group outreach and education through presentation events, and this collection will survey the attendees of those events.

The SHIP-SMP Survey of Group Outreach and Education Events will focus on group outreach and education events and the individuals who attend them, to determine if the target audience is satisfied with the information they are receiving. This is an extension with change to the Senior Medicare Program National Beneficiary Survey.

The Office of Healthcare Information and Counseling (OHIC) conducted an evaluation of the Medicare Improvements for Patients and Providers Act (MIPPA) in 2022-23 that invoked the need to include collecting demographic data, including sexual orientation and gender identity (SOGI) information, in all the work OHIC touches and not just MIPPA grant work. ACL is adding the collection of SOGI data to this extension of the SHIP-SMP Survey of Group Outreach and Education Events. Including sexual orientation and gender identity questions in this information collection will provide data on topics such as the accessibility and utilization of services and programs funded by ACL by lesbian, gay, bisexual, and transgender populations and the health disparities that impact this community. Understanding these disparities can and should lead to improved service delivery for ACL's programs and populations served.

An important gap in sociodemographic information on the SHIP-SMP Survey of Group Outreach and Education Events is a lack of items collecting sexual orientation and gender identity. Adding sexual orientation and gender identity items to SHIP-SMP Survey of Group Outreach and Education Events is part of ACL's strategy to address “Executive Order 13988 on Preventing and Combating Discrimination on the Basis of Gender Identity and Sexual Orientation.” Issued in January 2021, Executive Order 13988 called upon agencies to identify existing and new policies to promote equal treatment under the law and ensure that all persons are able to access healthcare and other essential services without being subjected to sex discrimination.

To support alignment with Executive Order 13988, as well as Executive Orders 13985 and 14075, three items will be added to SHIP-SMP Survey of Group Outreach and Education Events to collect sexual orientation and gender identity. The first item will ask the individual if they think of themselves as gay/lesbian, straight, bisexual, or something else.

This item has been fielded on the NHIS since 2013, where it has been closely monitored for comprehension and sensitivity. The second and third items are part of a two-step series to collect gender identity, which requires two items to accurately collect. Respondents are first asked to report their sex assigned at birth on their original birth certificate (male, female, don't know, prefer not to answer). Next, respondents are asked to report their current gender identity (male, female, transgender, I use a different term, prefer not to answer). This two-step series aligns with recommendations from the National Academies of Sciences, Engineering, and Medicine's (NASEM's) recent report, “Measuring Sex, Gender Identity, and Sexual Orientation.” These items have also been cognitively tested for inclusion in the Medicare Current Beneficiaries Survey under the MCBS Generic Clearance and performed well.

Estimated Program Burden: ACL estimates the burden associated with this collection of information as follows:

Respondent/data collection activity | Number of respondents (maximum) | Responses per respondent | Hours per response | Annual burden hours
Survey, Stratified Random Sample | 5,400 | 1 | 5/60 | 450
Total | 5,400 | 1 | 5/60 | 450

Dated: June 19, 2023.
Alison Barkoff,
Acting Administrator and Assistant Secretary for Aging.

[FR Doc. 2023-13968 Filed 6-29-23; 8:45 am]

BILLING CODE 4154-01-P